DEPARTMENT OF COMMERCE

Foreign-Trade Zones Board

[Docket 5-2006]

Foreign-Trade Zone 9—Honolulu, Hawaii Application for Expansion

An application has been submitted to the Foreign-Trade Zones (FTZ) Board (the Board) by the State of Hawaii, grantee of FTZ 9, requesting authority to expand FTZ 9 to include a site in Kailua-Kona on the Island of Hawaii. The application was submitted pursuant to the provisions of the Foreign-Trade Zones Act, as amended, (19 U.S.C. 81a-81u), and the regulations of the Board (15 CFR part 400). It was formally filed on February 15, 2006.

FTZ 9 was approved on February 15, 1965 (Board Order 65, 30 FR 2377, 2/20/65), and currently consists of eight sites (1,294 acres): Site 1—(17 acres) at Pier 2 in Honolulu Harbor (Oahu); Site 2—(1,033 acres) at the James Campbell Industrial Park, Ewa (Oahu); Site 3—(109 acres) at the Mililani Technology Park, Kihei (Maui); Site 4—(60 acres) at the Maui Research and Technology Park, Kihei (Maui); Site 5—(31 acres) at the Hilo Industrial Park, Hilo (Hawaii); Site 6—(27 acres) aviation fueling facilities at Honolulu International Airport, including tanker terminal at Pier 51 (Sand Island) and Pier 52, the bulk storage area for fuel storage tank facilities at Sand Island Access Road and Mokauea Street, the airport fuel storage facility at 3181 & 3201 Aolele Street, airport fueling stations and pipelines connecting the facilities (Oahu); Site 7—(7 acres) at Unicold Corporation's public cold-storage distribution facilities in the Airport Industrial complex at 3140 Ualena Street, Honolulu (Oahu); and Site 8—(10 acres) Hawaii Convention Center located at Kalakaua Avenue and Kapiolani Boulevard, Honolulu (Oahu).

The applicant is now requesting authority to expand the zone to include an additional site on the Island of Hawaii. The proposed site consists of 870 acres at the Natural Energy Laboratory of Hawaii Authority site located at 73-4460 Queen Kaahumanu Highway, #101, Kailua-Kona, Hawaii.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade Zones Board, U.S. Department of Commerce, Franklin Court Building—Suite 4100W, 1099 14th St., NW., Washington, DC 20005; or

2. Submissions Via the U.S. Postal Service: Foreign-Trade Zones Board, U.S. Department of Commerce, FCB—Suite 4100W, 1401 Constitution Ave., NW., Washington, DC 20230. The closing period for their receipt is April 25, 2006. Rebuttal comments in response to material submitted during the foregoing period may be submitted during the subsequent 15-day period (to May 10, 2006).

A copy of the application and accompanying exhibits will be available for public inspection at the Office of the Foreign-Trade Zones Board's Executive Secretary at the first address listed above, and at the U.S. Department of Commerce Export Assistance Center, 521 Ala Moana Blvd, Room 214, Honolulu, HI 96813.

Dated: February 15, 2006.
Dennis Puccinelli,
Executive Secretary.

[FR Doc. E6-2672 Filed 2-23-06; 8:45 am]

BILLING CODE 3510-DS-P